ENVIRONMENTAL PROTECTION AGENCY

40 CFR Part 52

[EPA-R07-OAR-2010-0170; FRL-9186-2]

Approval and Promulgation of Implementation Plans; State of Missouri

AGENCY: Environmental Protection Agency (EPA).

ACTION: Direct final rule.

SUMMARY: EPA is taking direct final action to approve revisions to the Missouri State Implementation Plan (SIP) submitted by the state on June 17, 2009. The purpose of these revisions is to rescind the rule More Restrictive Emission Limitations for Particulate Matter in South St. Louis Area and to approve revisions to the rule Restriction of Emission of Particulate Matter from Industrial Processes which make corrections and clarifications, and add exemptions to the rule. EPA is approving the SIP provisions pursuant to section 110 of the Clean Air Act (CAA).

DATES: This direct final rule will be effective October 12, 2010, without further notice, unless EPA receives adverse comment by September 10, 2010. If EPA receives adverse comment, we will publish a timely withdrawal of the direct final rule in the Federal Register informing the public that the rule will not take effect.

ADDRESSES: Submit your comments, identified by Docket ID No. EPA-R07-OAR-2010-0170, by one of the following methods:

1. http://www.regulations.gov. Follow the on-line instructions for submitting comments.

2. E-mail: bhesania.amy@epa.gov.

3. Mail or Hand Delivery: Amy Bhesania, Environmental Protection Agency, Air Planning and Development Branch, 901 North 5th Street, Kansas City, Kansas 66101.

Instructions: Direct your comments to Docket ID No. EPA-R07-OAR-2010-0170. EPA's policy is that all comments received will be included in the public docket without change and may be made available online at http://www.regulations.gov, including any personal information provided, unless the comment includes information claimed to be Confidential Business Information (CBI) or other information whose disclosure is restricted by statute. Do not submit through http://www.regulations.gov or e-mail information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, i.e., CBI or other information whose disclosure is restricted by statute. Certain other material, such as copyrighted material, will be publicly available only in hard copy form. Publicly available docket materials are available either electronically in http://www.regulations.gov or in hard copy at the Environmental Protection Agency, Air Planning and Development Branch, 901 North 5th Street, Kansas City, Kansas 66101. The Regional Office's official hours of business are Monday through Friday, 8 a.m. to 4:30 p.m. excluding Federal holidays. The interested persons wanting to examine these documents should make an appointment with the office at least 24 hours in advance.

FOR FURTHER INFORMATION CONTACT: Amy Bhesania at (913) 551-7147, or by e-mail at bhesania.amy@epa.gov.

SUPPLEMENTARY INFORMATION: Throughout this document “we,” “us,” or “our” refer to EPA.

Table of Contents

I. What revisions is EPA approving?

A. Rescission of 10 CSR 10-5.290, More Restrictive Emission Limitations for Particulate Matter in South St. Louis Area

B. Changes to 10 CSR 10-6.400, Restriction of Emission of Particulate Matter From Industrial Processes

II. What action is EPA taking?

III. Statutory and Executive Order Reviews

I. What revisions is EPA approving?

A. Rescission of 10 CSR 10-5.290, More Restrictive Emission Limitations for Particulate Matter in South St. Louis Area

EPA is approving revisions to the SIP which will rescind the rule More Restrictive Emission Limitations for Particulate Matter in South St. Louis Area. This rule was originally established to control particulate matter and sulfur dioxide (SO2) emissions for the South St. Louis “Hot Spot” which included restrictions applicable to the byproducts of coke ovens at 526 East Catalan Street owned and operated by Carondelet Coke Corporation and to a titanium pigment plant located at River des Peres and Mississippi River owned by N.L. Industries, Inc. The original rule was first adopted by the state and subsequently effective December 11, 1978. The EPA approved this new regulation through a final rulemaking on July 11, 1980. On August 30, 1982, EPA approved an amendment to this rule which provided for changes in ownership and operating responsibilities of the affected sources. On August 26, 1985, revisions to the state rule were made effective to delete provisions related to N.L. Industries, which was no longer in operation, and to make significant changes to provisions affecting Carondelet Coke. In addition, Missouri changed the title of this rule to More Restrictive Emission Limitations for Particulate Matter in South St Louis Area, which removed the reference to Sulfur Dioxide. These changes to the state rule were not approved Federally at that time. In 1988 Carondelet Coke went out of business and therefore Missouri is rescinding the rule as both entities subject to this rule are no longer in business.

In reviewing the rescission to the rule, EPA noted that this rule contained requirements for the restriction of fugitive particulates in the South St. Louis area. The state has a statewide fugitive dust rule, 10 CSR 10-6.170, which contains similar restrictions as the rule being addressed in this action. The statewide rule is also applicable in this South St. Louis “Hot Spot” area. EPA has compared the restrictions in the two rules and believes that the statewide 10 CSR 10-6.170 rule contains the same level of restrictions. In general, the statewide rule requires that “reasonable measures” be utilized to control fugitive emissions. EPA believes the statewide fugitive dust rule is as stringent as the requirements in the rescinded area rule and this action would not result in a relaxation of the SIP.

Because the two entities affected by the area-specific rule are no longer in operation, and because the state's statewide fugitive dust rule contains similar restrictions as this rule, EPA believes a rescission of the rule is appropriate, would ensure consistency between the state and federally-approved rules, and would not adversely affect air quality in the South St. Louis area.

B. Changes to 10 CSR 10-6.400, Restriction of Emission of Particulate Matter From Industrial Processes

The Restriction of Emission of Particulate Matter from Industrial Processes rule adds new exemptions and makes corrections and clarifications. The primary purpose of this rule is to limit the emissions of particulate matter in the source gas of an operation or activity from industrial processes. This is done through the use of process weight rate equations and tables contained in the rule. This rule was first adopted and subsequently effective on August 30, 2000. At that time, the rule consolidated the requirements of four similar out-state rules. The state initiated a follow-up rule action which addressed technical revisions to the rule that were adopted and subsequently effective on September 30, 2001. EPA approved this regulation and published the final rule making for this revision of the SIP on November 30, 2001. Subsequently, the state proposed these new rule revisions in October 2008 and submitted the revisions to the SIP on June 17, 2009. The revisions being addressed in this action are as follows:

1. Subsection (1)(B)8. was clarified to remove an outdated reference to 10 CSR 10-6.060 paragraphs (1)(D)1. and (1)(D)2. This subsection was amended to refer to appropriate provisions in 10 CSR 10-6.061. This reflects a prior rule revision by the state in which certain exemptions in rule 10-6.060 were moved to the new rule 10-6.061.

2. Subsection (1)(B)9. was added to clarify that emission sources permitted by rule under 10 CSR 10-6.062 were exempt from this regulation.

3. Subsection (1)(B)14. was added as an exemption for coating operations equipped with a control system designed to control at least ninety-five percent (95%) of the particulate overspray provided the system is operated and maintained in accordance with manufacturers' specifications or comparable maintenance procedures that meet or exceed manufacturers' specifications.

4. Subsection (1)(B)15. was added as an exemption for any particulate matter emission unit that is subject to a Federally enforceable requirement to install, operate, and maintain a particulate matter control device system that controls at least ninety percent (90%) of particulate matter emissions.

5. Subsection (1)(B)16. was added as an exemption for emission units that at maximum hourly design rate (MHDR) have an uncontrolled potential to emit less than the allowable emissions as calculated in subsections (3)(A)1. and (3)(A)2. of the rule.

6. Other general changes to the numbering systems were made.

EPA has reviewed the state's revisions to this rule as well as the state's technical support documentation (TSD) submitted with the SIP revision. The first two revisions to the rule (the revisions described in 1 and 2 above) are clarifying revisions. EPA has reviewed these revisions and believes these are appropriate and accurate.

The state also submitted three new exemptions to the rule. The first exemption (item 3 above) is for coating operations equipped to control at least ninety-five percent (95%) of particulate overspray. EPA believes that the TSD supports this exemption through a demonstration using one of the larger permitted facilities for spray coating operations. The demonstration shows that for applicable facilities, the controlled particulate matter levels are very minimal and that the controlled emission rate for this example facility is well below the emission rate limitation calculated using the process weight rule. The example unit would have a controlled emission rate of 0.01 lb/hr of particulate matter compared to the applicable process weight emission rate limit of 0.07 lb/hr.

In addition, Missouri indicated that that this rule does not change any actual processes related to coating operations, but instead will no longer require these exempt units to calculate emission rate limits which demonstrate that their units cannot physically exceed the limits contained in the rule.

The second exemption (item 4 above) is for any particulate matter emission unit that is subject to a federally enforceable requirement to install, operate, and maintain a particulate matter control device system that controls at least ninety percent (90%) of particulate matter emissions. Based on EPA's review, this exemption would not increase particulate matter emissions since the exemption requires controls, just through an enforceable mechanism other than this rule.

The third exemption (item 5) is for emission units that at maximum hourly design rate (MHDR) have an uncontrolled potential to emit less than the allowable emissions as calculated in subsections (3)(A)1. and (3)(A)2. of this rule. Based on EPA's review, this exemption would not increase particulate matter emissions limitations since the exemption is specifically for units which would not exceed the limits as calculated. This exemption was included in the rule so that units that are physically unable to reach the allowable emission limits would not have to run calculations each year to demonstrate this.

For item 6 above, these revisions did not change any emissions limits for any sources.

The state submitted the appropriate documentation to support the revisions to this rule and demonstrated that these exemptions will not adversely impact air quality. EPA believes the amendments to this rule are appropriate.

II. What action is EPA taking?

EPA is taking final action to approve the request to amend the Missouri SIP. The revisions pertain to a rescission and routine updates, corrections, clarifications and improvements as listed previously in this document. These modifications will not adversely affect air quality and will not relax the SIP. The state provided adequate justification where certain revisions could result in emissions increases.

The state submittal has met the public notice requirements for SIP submissions in accordance with 40 CFR 51.102. On October 1, 2008, Missouri published the proposed revisions to the rules in the Missouri Register. After considering public comments, the Missouri Air Conservation Commission (MACC) adopted the rule actions on February 3, 2009. Public comments were printed in the Missouri Register along with a re-print of the rule on April 15, 2009. The effective date was May 30, 2009. EPA received Missouri's SIP revision on June 17, 2009.

The submittal also satisfied the completeness criteria of 40 CFR part 51, appendix V. In addition, as explained above, the revision meets the substantive SIP requirements of the CAA, including section 110 and implementing regulations.

EPA is processing this action as a direct final action because the revisions make routine changes to the existing rules which are noncontroversial. Therefore, we do not anticipate any adverse comments. Please note that if EPA receives adverse comment on part of this rule and if that part can be severed from the remainder of the rule, EPA may adopt as final those parts of the rule that are not the subject of an adverse comment.

III. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by October 12, 2010. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 21, 2010.
William Rice,
Acting Regional Administrator, Region 7.

40 CFR part 52 is amended as follows:

PART 52—[AMENDED]

1. The authority citation for part 52 continues to read as follows:

Authority: 42 U.S.C. 7401 et seq.

Subpart AA—Missouri

2. In § 52.1320(c) the table is amended by:

a. Removing the entry under Chapter 5 for 10-5.290; and

b. Revising the entry under Chapter 6 for 10-6.400.

The revision reads as follows:

§ 52.1320 Identification of plan.

* * * * *

(c) * * *

EPA-Approved Missouri Regulations
Missouri citation | Title | State effective date | EPA approval date | Explanation
Missouri Department of Natural Resources
* * * * * * *
Chapter 6—Air Quality Standards, Definitions, Sampling and Reference Methods and Air Pollution Control Regulations for the Entire State of Missouri
* * * * * * *
10-6.400 | Restriction of Emission of Particulate Matter from Industrial Processes | 5/30/09 | 8/11/10 [insert FR page number where the document begins] |
* * * * * * *

* * * * *

[FR Doc. 2010-19569 Filed 8-10-10; 8:45 am]

BILLING CODE 6560-50-P